DEPARTMENT OF THE INTERIOR

Bureau of Safety and Environmental Enforcement

[Docket ID BSEE-2016-0005; OMB Control Number 1014-0010; 17XE1700DX EEEE500000 EX1SF0000.DAQ000]

Information Collection Activities: Decommissioning Activities; Submitted for Office of Management and Budget (OMB) Review; Comment Request

ACTION: 30-day Notice.

SUMMARY: To comply with the Paperwork Reduction Act of 1995 (PRA), the Bureau of Safety and Environmental Enforcement (BSEE) is notifying the public that we have submitted to OMB an information collection request (ICR) to renew approval of the paperwork requirements in the regulations under Subpart Q, Decommissioning Activities. This notice also provides the public a second opportunity to comment on the revised paperwork burden of these regulatory requirements.

DATES: You must submit comments by November 21, 2016.

ADDRESSES: Submit comments by either fax (202) 395-5806 or email (OIRA_Submission@omb.eop.gov) directly to the Office of Information and Regulatory Affairs, OMB, Attention: Desk Officer for the Department of the Interior (1014-0010). Please provide a copy of your comments to BSEE by any of the means below.

• Electronically go to http://www.regulations.gov. In the Search box, enter BSEE-2016-0005 then click search. Follow the instructions to submit public comments and view all related materials. We will post all comments.

• Email kye.mason@bsee.gov, fax (703) 787-1546, or mail or hand-carry comments to the Department of the Interior; Bureau of Safety and Environmental Enforcement; Regulations and Standards Branch; ATTN: Nicole Mason; 45600 Woodland Road, Sterling, VA 20166. Please reference ICR 1014-0010 in your comment and include your name and return address.

FOR FURTHER INFORMATION CONTACT: Nicole Mason, Regulations and Standards Branch, (703) 787-1607, to request additional information about this ICR. To see a copy of the entire ICR submitted to OMB, go to http://www.reginfo.gov (select Information Collection Review, Currently Under Review).

SUPPLEMENTARY INFORMATION: Title: 30 CFR part 250, subpart Q, Decommissioning Activities.

OMB Control Number: 1014-0010.

Abstract: The Outer Continental Shelf (OCS) Lands Act at 43 U.S.C. 1334 authorizes the Secretary of the Interior to prescribe rules and regulations necessary for the administration of the leasing provisions of that Act related to mineral resources on the OCS. Such rules and regulations will apply to all operations conducted under a lease, right-of-way, or a right-of-use and easement. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

In addition to the general rulemaking authority of the OCSLA at 43 U.S.C. 1334, section 301(a) of the Federal Oil and Gas Royalty Management Act (FOGRMA), 30 U.S.C. 1751(a), grants authority to the Secretary to prescribe such rules and regulations as are reasonably necessary to carry out FOGRMA's provisions. While the majority of FOGRMA is directed to royalty collection and enforcement, some provisions apply to offshore operations. For example, section 108 of FOGRMA, 30 U.S.C. 1718, grants the Secretary broad authority to inspect lease sites for the purpose of determining whether there is compliance with the mineral leasing laws. Section 109(c)(2) and (d)(1), 30 U.S.C. 1719(c)(2) and (d)(1), impose substantial civil penalties for failure to permit lawful inspections and for knowing or willful preparation or submission of false, inaccurate, or misleading reports, records, or other information. Because the Secretary has delegated some of the authority under FOGRMA to BSEE, 30 U.S.C. 1751 is included as additional authority for these requirements.

The Independent Offices Appropriations Act (31 U.S.C. 9701), the Omnibus Appropriations Bill (Pub. L. 104-133, 110 Stat. 1321, April 26, 1996), and OMB Circular A-25, authorize Federal agencies to recover the full cost of services that confer special benefits. Under the Department of the Interior's implementing policy, the Bureau of Safety and Environmental Enforcement (BSEE) is required to charge fees for services that provide special benefits or privileges to an identifiable non-Federal recipient above and beyond those which accrue to the public at large. Respondents pay cost recovery fees when removing a platform or other facility, or for decommissioning a pipeline lease term or a right-of-way.

This authority and responsibility are among those delegated to BSEE. The regulations at 30 CFR 250, Subpart Q, concern decommissioning of platforms, wells, and pipelines, as well as site clearance and platform removal and are the subject of this collection. This request also covers the related Notices to Lessees and Operators (NTLs) that BSEE issues to clarify, supplement, or provide additional guidance on some aspects of our regulations.

Responses to this collection are mandatory and are generally submitted on occasion, depending on the requirement. No questions of a sensitive nature are asked. BSEE will protect any confidential commercial or proprietary information according to the Freedom of Information Act (5 U.S.C. 552) and DOI's implementing regulations (43 CFR 2); section 26 of OCSLA (43 U.S.C. 1352); 30 CFR 250.197, Data and information to be made available to the public or for limited inspection; and 30 CFR part 252, OCS Oil and Gas Information Program.

The BSEE uses the information collected under Subpart Q primarily for the following reasons:

• To determine the necessity for allowing a well to be temporarily abandoned, the lessee/operator must demonstrate that there is a reason for not permanently plugging the well, and the temporary abandonment will not interfere with fishing, navigation, or other uses of the OCS. We use the information and documentation to verify that the lessee/operator is diligently pursuing the final disposition of the well and has performed the temporary plugging of the wellbore.

• To ensure the information submitted in initial decommissioning plans in the Alaska and Pacific OCS Regions will permit BSEE to become involved in the initial planning stages of platform removals anticipated to occur in these OCS regions.

• To ensure that all objects (wellheads, platforms, etc.) installed on the OCS are properly removed using procedures that will protect marine life and the environment during removal operations, and the site cleared so as not to conflict with or harm other uses of the OCS.

• To ensure that information regarding decommissioning a pipeline in place will not constitute a hazard to navigation and commercial fishing operations, unduly interfere with other uses of the OCS, such as sand resource areas for coastal restoration projects, or have adverse environmental effects.

• To verify that decommissioning activities comply with approved applications and procedures and are satisfactorily completed.

• To evaluate and approve the adequacy of the equipment, materials, and/or procedures that the lessee or operator plans to use during well modifications and changes in equipment, etc.

• To help BSEE better estimate future decommissioning costs for OCS leases, rights-of-way, and rights of use and easements. BSEE's future decommissioning cost estimates may then be used by BOEM to set necessary financial assurance levels to minimize or eliminate the possibility that the government will incur abandonment liability. The information will assist BSEE and BOEM in meeting their stewardship responsibilities and in their roles as regulators.

Frequency: Generally on occasion, annual, and as required by regulations.

Description of Respondents: Potential respondents comprise Federal OCS oil, gas, or sulfur lessees and/or operators and holders of pipeline rights-of-way.

Estimated Reporting and Recordkeeping Hour Burden: The estimated annual hour burden for this information collection is a total of 15,524 hours and $1,686,396 non-hour costs. The following chart details the individual components and estimated hour burdens. In calculating the burdens, we assumed that respondents perform certain requirements in the normal course of their activities. We consider these to be usual and customary and took that into account in estimating the burden.

Burden Breakdown
Citation 30 CFR 250 subpart Q | Reporting requirement* | Non-hour cost burdens: Hour burden | Non-hour cost burdens: Average number of annual responses | Non-hour cost burdens: Annual burden hours (rounded)
General
1704(g); 1706(a), (f); 1712; 1715; 1716; 1721(a),(d), (f)-(g); 1722(a), (b), (d); 1723(b); 1743(a); Sub G | These sections contain references to information, approvals, requests, payments, etc., which are submitted with an APM, the burdens for which are covered under its own information collection | APM burden covered under 1014-0026.
1700 thru 1754 | General departure and alternative compliance requests not specifically covered elsewhere in Subpart Q regulations | Burden covered under Subpart A 1014-0022 |  | 0
1703; 1704 | Request approval for decommissioning | Burden included below |  | 0
1704(i), (j) | Submit to BSEE, within 120 days after completion of each decommissioning activity, a summary of expenditures incurred; any additional information that will support and/or verify the summary | 1 | 820 summaries/additional information | 820
Subtotal |  |  | 820 responses | 820 hours
Permanently Plugging Wells
1712 | Required data if permanently plugging a well | Requirement not considered Information Collection under 5 CFR 1320.3(h)(9). |  | 0
1713 | Notify BSEE 48 hours before beginning operations to permanently plug a well | 0.5 | 725 notices | 363
Subtotal |  |  | 725 responses | 363 hours
Temporary Abandoned Wells
1721(f) | Install a protector structure designed according to 30 CFR 250, Subpart I, and equipped with aids to navigation. (These requests are processed via the appropriate Platform Application, 30 CFR 250 Subpart I by the OSTS.) | Burden covered under Subpart I 1014-0011 |  | 0
1721(e); 1722(e), (h)(1); 1741(c) | Identify and report subsea wellheads, casing stubs, or other obstructions; mark wells protected by a dome; mark location to be cleared as navigation hazard | U.S. Coast Guard requirements. |  | 0
1722(c), (g)(2); 1704(h) | Notify BSEE within 5 days if trawl does not pass over protective device or causes damages to it; or if inspection reveals casing stub or mud line suspension is no longer protected | 1 | 11 notices | 11
1722(f), (g)(3) | Submit annual report on plans for re-entry to complete or permanently abandon the well and inspection report | 2.5 | 98 reports | 245
1722(h) | Request waiver of trawling test | 1.5 | 4 requests | 6
Subtotal |  |  | 113 responses | 262 hours
Removing Platforms and Other Facilities
1725(a) | Requests to maintain the structure to conduct other activities are processed, evaluated and permitted by the OSTS via the appropriate Platform Application process, 30 CFR 250 Subpart I. (Other activities include but are not limited to activities conducted under the grants of right-of-ways (ROWs), rights—of-use and easement (RUEs), and alternate rights-of-use and easement authority issued under 30 CFR 250 Subpart J, 30 CFR 550.160, and/or 30 CFR 585, etc.) | Burden covered under Subpart I 1014-0011 |  | 0
1725(e) | Notify BSEE 48 hours before beginning removal of platform and other facilities | 0.5 | 175 notices | 88
1726; 1704(a) | Submit initial decommissioning application in the Pacific and Alaska OCS Regions | 20 | 1 application | 20
1727; 1728; 1730; 1703; 1704(b); 1725(b) | Submit final application and appropriate data to remove platform or other subsea facility structures (This included alternate depth departures and/or approvals of partial removal or toppling for conversion to an artificial reef.) | 28 | 240 applications | 6,720
|  | $4,684 fee × 240 = $1,124,160
1729; 1704(c) | Submit post platform or other facility removal report; supporting documentation; signed statements, etc | 9.5 | 175 reports | 1,663
Subtotal |  |  | 591 responses | 8,491 Hours
|  |  | $1,124,160 non-hour cost burdens
Site Clearance for Wells, Platforms, and Other Facilities
1740; 1741(g) | Request approval to use alternative methods of well site, platform, or other facility clearance; contact pipeline owner/operator before trawling to determine its condition | 12.75 | 30 requests/contacts | 383
1743(b); 1704(f), (h) | Verify permanently plugged well, platform, or other facility removal site cleared of obstructions; supporting documentation; and submit certification letter | 5 | 200 certifications | 1,000
Subtotal |  |  | 230 Responses | 1,383 Hours
Pipeline Decommissioning
1750; 1751; 1752; 1754; 1704(d) | Submit application to decommission pipeline in place or remove pipeline (L/T or ROW) | 10 | 213 L/T applications | 2,130
|  | $1,142 L/T decommission fee × 213 = $243,246
|  | 10 | 147 ROW applications | 1,470
|  | $2,170 ROW decommissioning fees × 147 = $318,990
1753; 1704(e) | Submit post pipeline decommissioning report | 2.5 | 242 reports | 605
Subtotal |  |  | 602 responses | 4,205 hours
|  |  | $562,236 non-hour cost burdens
|  |  | 3,081 responses | 15,524 hours
Total Burden |  |  | $1,686,396 non-hour cost burdens
* In the future, BSEE may require electronic filing of some submissions.
L/T = Lease Term.
ROW = Right of Way.

Estimated Reporting and Recordkeeping Non-Hour Cost Burden: BSEE has identified three non-hour paperwork cost burdens for this collection. Respondents pay cost recovery fees when removing a platform or other facility under § 250.1727 for $4,684, or for decommissioning a pipeline under §§ 250.1751(a) and 250.1752(a)—L/T for $1,142 or a ROW for $2,170. We estimate a total reporting non-hour cost burden of $1,686,396 for this collection. Refer to the table above for the specific non-hour paperwork cost burden breakdown. We have not identified any other non-hour cost burdens associated with this collection of information.

Public Disclosure Statement: The PRA (44 U.S.C. 3501, et seq.,) provides that an agency may not conduct or sponsor a collection of information unless it displays a currently valid OMB control number. Until OMB approves a collection of information, you are not obligated to respond.

Comments: Section 3506(c)(2)(A) of the PRA (44 U.S.C. 3501, et seq.,) requires each agency “. . . to provide notice . . . and otherwise consult with members of the public and affected agencies concerning each proposed collection of information . . .” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on May 19, 2016, we published a Federal Register notice (81 FR 31660) announcing that we would submit this ICR to OMB for approval. The notice provided the required 60-day comment period. In addition, § 250.199 provides the OMB Control Number for the information collection requirements imposed by the 30 CFR 250, Subpart Q regulations. The regulation also informs the public that they may comment at any time on the collections of information and provides the address to which they should send comments. We received no comments in response to the Federal Register notice.

Public Availability of Comments: Before including your address, phone number, email address, or other personal identifying information in your comment, you should be aware that your entire comment-including your personal identifying information-may be made publicly available at any time. While you can ask us in your comment to withhold your personal identifying information from public review, we cannot guarantee that we will be able to do so.

BSEE Information Collection Clearance Officer: Nicole Mason, (703) 787-1607.

Keith Good,
Senior Advisor, Office of Offshore Regulatory Programs.

[FR Doc. 2016-25371 Filed 10-19-16; 8:45 am]

BILLING CODE 4310-VH-P